NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Thursday, March 29, 2007, at 8 a.m. and Friday, March 30, 2007 at 8 a.m.

Place: National Science Foundation, 4201 Wilson Blvd., Room 1235, Arlington, VA 22230. All visitors must report to the NSF visitor desk at the 9th and N. Stuart Streets entrance to receive a visitor's badge.

Status: Some portions open, some portions closed.

Open Sessions

March 29, 2007

8-9 a.m.

9-10 a.m.

10-10:30 a.m.

10:30 a.m.-12:30 p.m.

2-3 p.m.

3-5 p.m.

March 30, 2007

8-10 a.m.

10:30 a.m.-12 noon

1:20-3 p.m.

Closed Sessions

March 29, 2007

5-6 p.m.

March 30, 2007

10-10:30 a.m.

1-1:10 p.m.

1:10-1:20 p.m.

Agency Contact: Dr. Robert E. Webber, rwebber@nsf.gov, (703) 292-7000, http://www.nsf.gov/nsb/.

Matters To Be Discussed:

Thursday, March 29, 2007

CPP Subcommittee on Polar Issues

Open Session (8-9 a.m.)

• Approval of November Minutes

• Subcommittee Chairman's Remarks

• The Oden in Antarctica

• NSB Resolutions and the NAS/NRC Report on Polar Icebreakers

• Legislation Implementing Antarctic Treaty Measures on Liability and Tourism

CPP Task Force on International Science

Open Session (9-10 a.m.)

• Approval of Minutes

• Task Force Chairman's Comments

• Overview of the Task Force Roundtable Discussion on International Science and Engineering Partnerships held March 9, 2007 in Brussels, and the Task Force discussion held March 13, 2007 in Trieste

• Summary of the Conference of Women Leaders in Science, Technology, and Engineering held January 8-10, 2007 in Kuwait

• Presentation on National Academies of Science report, The Fundamental Role of Science and Technology in International Development: An Imperative for the U.S. Agency for International Development

• Discussion of future Task Force activities

CPP Task Force on Transformative Research

Open Session (10-10:30 a.m.)

• Approval of Minutes for November 2006 Meeting

• Task Force Chairman's Remarks

• Final Draft Report for Board Review and Approval, Enhancing Support of Transformative Research at the National Science Foundation

EHR Subcommittee on Science and Engineering Indicators

Open Session (10:30 a.m.-12:30 p.m.)

• Approval of November Minutes

• Subcommittee Chairman's Remarks

• Review of Elementary and Secondary Education chapter: Chapter 1

• Review of State Indicators chapter: Chapter 8

• Condensed Version of Indicators

• Key Findings: K-12 chapter, Chapter 1

• Key Findings: State chapter, Chapter 8

• Parallel discussion of Science and Engineering Indicators 2010: Status

• State Considerations

• Industry Considerations

• Subcommittee Chairman's summary

Committee on Strategy and Budget

Open Session (2-3 p.m.)

• Approval of February 8, 2007 CSB Minutes

• Chairman's Remarks

• Status of NSF Budget Request and Congressional Testimony

• Update on the Impacts of the NSB Policy to Eliminate Cost-Sharing on Grants

• Findings from NSF Working Group on the Impact of Proposal and Award Management Mechanisms (IPAMM)

Committee on Programs and Plans

Open Session (3-5 p.m.)

• Approval of Minutes

• Committee Chairman's Remarks

• Status Report: Task Force on International Science

• Subcommittee on Polar Issues

• Task Force on Transformative Research

• Final Report and Recommendations

• Request for Information: Recompetition, Operations and Management Costs for NSF Contracts, Cooperative Agreements and Grants

• Potential Impacts to the MREFC Program from the Realities of the FY 2007 Budget and the FY 2008 Request.

• NSB Information Item: Update on the Division of Astronomical Sciences Senior Review

Closed Session (5-6 p.m.)

• NSB Action Item: National Optical Astronomy Observatory and the National Solar Observatory

• NSB Action Item: National Astronomy and Ionosphere Center

Friday, March 30, 2007

Committee on Audit and Oversight

Open Session (8-10 a.m.)

• Approval of Minutes of February 2007 Meeting

• Committee Chairman's Opening Remarks

• Report to the Board on the NSF Merit Review Process, FY 2006

• Chief Operating Officer's Update

• Chief Financial Officer's Update

• NSF Audit Resolution Practices and Procedures

• FY2006 Financial Statement Audit Corrective Action Plan Update

• FY2007 Financial Statement Audit update

• OIG comments on FY2006 and FY2007 Financial Statement Audit matters

• Committee Chairman's closing Remarks

Closed Session (10-10:30 a.m.)

• Pending Investigations

Committee on Education and Human Resources

Open Session (10:30 a.m.-12 noon)

• Approval of February 2007 Minutes

• Committee Chairman's Remarks

• Update on Modifications of NSF-EHR Directorate Organization and Interagency Discussions

• Subcommittee on Science and Engineering Indicators

• Summary and Follow-on to the Engineering Education Workshops

• NSB Executive Officer's Report

Plenary Executive Closed

Closed Session (1-1:10 p.m.)

• Approval of February 2007 Minutes

• Member Proposal

• Honorary Award

Plenary Closed

Closed Session (1:10-1:20 p.m.)

• Approval of February 2007 Minutes

• Awards and Agreements

• Closed Committee Reports

Plenary Open

Open Session (1:20-3 p.m.)

• Approval of February 2007 Minutes

• Resolution to Close May 2007 Meeting

• Chairman's Report

• Board Discussion: STEM Education Commission

• Director's Report

• Open Committee Report

Russell Moy,
Attorney-Advisor.

[FR Doc. E7-5493 Filed 3-23-07; 8:45 am]

BILLING CODE 7555-01-P